FEDERAL ACCOUNTING STANDARDS ADVISORY BOARD

Notice of Renewal of Federal Accounting Standards Advisory Board Charter and Establishment of Appointments Panel Charter

AGENCY: Federal Accounting Standards Advisory Board.

ACTION: Notice.

SUMMARY: Notice is hereby given that the Secretary of the Treasury, the Director of the Office of Management and Budget, and the Comptroller General of the United States (the Sponsors) have agreed to continue an advisory committee to consider and recommend accounting standards and principles for the federal government. The advisory committee is called the Federal Accounting Standards Advisory Board (FASAB). Copies of the charter can be obtained by contacting FASAB at (202) 512-7350.

Notice is also hereby given that the Sponsors intend to charter FASAB's subcommittee, called the Appointments Panel. The Appointments Panel's mission is to assist in the selection, appointment, and monitoring of special government employee members of FASAB. The Panel assists the Sponsors by recruiting and recommending individuals for appointment or reappointment of special government employee members. The panel also assists the Sponsors and FASAB in evaluating and monitoring adherence to the American Institute of Certified Public Accountants (AICPA) criteria for an entity designated as a source for generally accepted accounting principles (GAAP). The Sponsors affirm that the Appointments Panel is essential to the conduct of the agencies' business, is in the public interest, and the functions cannot be performed by other means.

FOR FURTHER INFORMATION CONTACT: Ms. Monica R. Valentine, Executive Director, 441 G Street NW, Suite 1155, Washington, DC 20548, or call (202) 512-7350.

Authority: 31 U.S.C. 3511(d); Federal Advisory Committee Act, 5 U.S.C. 1001-1014).

Dated: October 5, 2023.
Monica R. Valentine,
Executive Director.

[FR Doc. 2023-22515 Filed 10-12-23; 8:45 am]

BILLING CODE 1610-02-P